DEPARTMENT OF AGRICULTURE

Office of the Secretary

Notice of Request for Extension of a Currently Approved Information Collection

AGENCY: Office of the Secretary, USDA.

ACTION: Proposed collection; comments requested.

SUMMARY: In accordance with the Paperwork Reduction Act of 1995, this notice announces the Office of Community Development's intention to request an extension for a currently approved information collection in support of the program for 7 CFR part 25 Rural Empowerment Zones and Enterprise Communities (EZ/EC).

DATES: Comments on this notice must be received by March 7, 2006 to be assured of consideration.

FOR FURTHER INFORMATION CONTACT: Yvette Butler, Program Specialist, Office of Community Development, U.S. Department of Agriculture, STOP 3203, 1400 Independence Avenue, SW., Washington, DC 20250-3203, or by e-mail: Yvette.Butler@wdc.usda.gov. Telephone: 202-690-4743.

SUPPLEMENTARY INFORMATION:

Title: Rural Empowerment Zones and Enterprise Communities (EZ/EC).

OMB Number: 0570-0027.

Expiration Date of Approval: May 31, 2006.

Type of Request: Extension for a currently approved information collection.

Abstract: USDA Rural Development's Office of Community Development administers the rural Empowerment Zones and Enterprise Communities (EZ/EC) program, an initiative designed to provide economically depressed rural areas and communities with real opportunities for growth and revitalization. Its mission: To create self-sustaining, long-term economic development in areas of pervasive poverty, unemployment, and general distress, and to demonstrate how distressed communities can achieve self-sufficiency through innovative and comprehensive strategic plans developed and implemented by alliances among private, public, and nonprofit entities.

Estimate of Burden: Public reporting burden for this collection of information is estimated to average 11 hours per response.

Respondents: Rural Empowerment Zones, Rural Enterprise Communities and Champion Communities.

Estimated Number of Respondents: 110.

Estimated Number of Responses per Respondent: 2.

Estimated Number of Responses: 220.

Estimated Total Annual Burden on Respondents: 2,402 hours.

Copies of this information collection can be obtained from Cheryl Thompson, Regulations and Paperwork Management Branch, Support Services Division at (202) 692-0043.

Comments

Comments are invited on: (a) Whether the proposed collection of information is necessary for the proper performance of the functions of the Office of the Secretary, including whether the information will have practical utility; (b) the accuracy of the Office of the Secretary's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent to Cheryl Thompson, Regulations and Paperwork Management Branch, Support Services Division, U.S. Department of Agriculture, Rural Development, STOP 0742, 1400 Independence Ave., SW., Washington, DC 20250-0742. All responses to this notice will be summarized and included in the request for OMB approval. All comments will also become a matter of public record.

Dated: December 27, 2005.
Allan Johnson,
Acting Under Secretary, Rural Development.

[FR Doc. E6-35 Filed 1-5-06; 8:45 am]

BILLING CODE 3410-01-P